ARCTIC RESEARCH COMMISSION

Sunshine Act Meeting

October 17, 2003.

Notice is hereby given that the U.S. Arctic Research Commission will hold its 70th Meeting in Washington, DC on November 18th, 19th and 20th, 2003. The November 18th session will be a half-day, afternoon session (joint with the NAS/NRC Polar Research Board). On the 19th and 20th the Commission will meet for the full day. The Business Session open to the public will convene at 1 p.m. Tuesday, November 18th and will reconvene at 9 a.m. Wednesday. The Agenda items include:

(1) Call to order and approval of the Agenda.

(2) Approval of the Minutes of the 69th Meeting.

(3) Reports from Congressional Liaisons.

(4) Agency Reports.

The focus of the Meeting will be reports and updates on programs and research projects affecting the U.S. Arctic. Presentations include a review of common research interests with the Polar Research Board.

The Business Session will reconvene at 9 a.m. Thursday, November 20th, 2003. An Executive Session will follow adjournment of the Business Session.

Any person planning to attend this meeting who requires special accessiblity features and/or auxiliary aids, such as sign language interpreters must inform the Commission in advance of those needs.

The Contact Person for More Information: Dr. Garrett W. Brass, Executive Director, Arctic Research Commission, Phone 703-525-0111, e-mail g.brass@arctic.gov or TDD 703-306-0090. Please visit the Commission's Web Site at http://www.arctic.gov for more information.

Garrett W. Brass,
Executive Director.

[FR Doc. 03-27475 Filed 10-28-03; 12:23 pm]

BILLING CODE 7555-01-M